DEPARTMENT OF COMMERCE

National Oceanic and Atmospheric Administration

[RTID 0648-XA067]

Gulf of Mexico Fishery Management Council; Public Meeting; Cancellation

AGENCY: National Marine Fisheries Service (NMFS), National Oceanic and Atmospheric Administration (NOAA), Commerce.

ACTION: Notice of cancellation of a public meeting.

SUMMARY: The Gulf of Mexico Fishery Management Council (Council) is cancelling a 4-day meeting.

DATES: The meeting was to convene Monday, March 30 through Thursday, April 2, 2020; 8:30 a.m. until 4 p.m.

ADDRESSES:

Council address: Gulf of Mexico Fishery Management Council, 4107 W. Spruce Street, Suite 200, Tampa, FL 33607; telephone: (813) 348-1630.

FOR FURTHER INFORMATION CONTACT: Dr. Carrie Simmons, Executive Director, Gulf of Mexico Fishery Management Council; telephone: (813) 348-1630.

SUPPLEMENTARY INFORMATION: The meeting notice published on March 6, 2020, (85 FR 13143). Due the COVID-19 pandemic, the meeting has been cancelled.

Authority: 16 U.S.C. 1801 et seq.

Dated: March 16, 2020.
Tracey L. Thompson,
Acting Deputy Director, Office of Sustainable Fisheries, National Marine Fisheries Service.

[FR Doc. 2020-05790 Filed 3-19-20; 8:45 am]

BILLING CODE 3510-22-P